SECURITIES AND EXCHANGE COMMISSION

[Release No. 34-47151; File No. SR-OC-2002-05]

Self-Regulatory Organizations; Notice of Filing and Immediate Effectiveness of Proposed Rule Change by OneChicago, LLC Relating to Customer Risk Disclosure Statements

January 9, 2003.

Pursuant to section 19(b)(7) of the Securities Exchange Act of 1934 (“Act”),¹ and Rule 19b-7 under the Act,² notice is hereby given that on December 18, 2002, OneChicago, LLC (“OneChicago”) filed with the Securities and Exchange Commission (“SEC” or “Commission”) the proposed rule change described in Items I, II, and III, below, which Items have been prepared by OneChicago. The Commission is publishing this notice to solicit comments on the proposed rule change from interested persons. OneChicago also filed the proposed rule change with the Commodity Futures Trading Commission (“CFTC”), together with a written certification under section 5c(c) of the Commodity Exchange Act (“CEA”),³ on December 18, 2002.

¹ 15 U.S.C. 78s(b)(7).

² 17 CFR 240.19b-7.

³ 7 U.S.C. 7a-2(c).

I. Self-Regulatory Organization's Description of the Proposed Rule Change

OneChicago is proposing to amend its Rule 510 relating to customer risk disclosure statements to clarify that clearing members and, if applicable, exchange members or access persons, will provide customers with a written risk disclosure statement, in accordance with applicable requirements of the National Futures Association (“NFA”) (in the case of any clearing member, exchange member or access person that is registered with the NFA) or the National Association of Securities Dealers, Inc. (the “NASD”) (in the case of any clearing member, exchange member or access person that is registered with the NASD).

II. Self-Regulatory Organization's Statement of the Purpose of, and Statutory Basis for, the Proposed Rule Change

OneChicago has prepared statements concerning the purpose of, and statutory basis for, the proposed rule change, burdens on competition, and comments received from members, participants, and others. The text of these statements may be examined at the places specified in Item IV below. These statements are set forth in Sections A, B, and C below.

A. Self-Regulatory Organization's Statement of the Purpose of, and Statutory Basis for, the Proposed Rule Change

1. Purpose

The proposed rule change is designed to clarify that clearing members and, if applicable, exchange members or access persons will provide customers with a written risk disclosure statement in accordance with applicable requirements of the NFA (in the case of any clearing member, exchange member or access person that is registered with the NFA) or the NASD (in the case of any clearing member, exchange member or access person that is registered with the NASD). The revised language reflects accepted industry practice and takes account of the fact that the intermediaries referenced in OneChicago Rule 510 are already subject to the pertinent NFA and NASD requirements.

2. Statutory Basis

The proposed rule change is authorized by, and consistent with, section 6(b)(5) of the Act ⁴ because it is designed to promote just and equitable principles of trade.

⁴ 15 U.S.C. 78f(g).

B. Self-Regulatory Organization's Statement on Burden on Competition

OneChicago believes that the proposed rule change will not impose or relieve any burden on, or promote, competition.

C. Self-Regulatory Organization's Statement on Comments on Proposed Rule Change Received From Members, Participants, or Others

Comments on the proposed rule change have not been solicited.

III. Date of Effectiveness of the Proposed Rule Change and Timing for Commission Action

Pursuant to section 19(b)(7)(B) of the Act,⁵ the proposed rule change, as filed with the Commission on December 18, 2002, became effective on December 19, 2002. Within 60 days of the date of effectiveness of the proposed rule change, the Commission, after consultation with the CFTC, may summarily abrogate the proposed rule change and require that the proposed rule change be refiled in accordance with the provisions of section 19(b)(1) of the Act.⁶

⁵ 15 U.S.C. 78s(b)(7)(B).

⁶ 15 U.S.C. 78s(b)(1).

IV. Solicitation of Comments

Interested persons are invited to submit written data, views, and arguments concerning the foregoing, including whether the proposed rule change conflicts with the Act. Persons making written submissions should file nine copies of the submission with the Secretary, Securities and Exchange Commission, 450 Fifth Street, NW., Washington, DC 20549-0609. Comments also may be submitted electronically to the following e-mail address: rule-comments@sec.gov. Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room. Copies of these filings will also be available for inspection and copying at the principal office of OneChicago. Electronically submitted comments will be posted on the Commission's internet Web site (http://www.sec.gov). All submissions should refer to File No. SR-OC-2002-05 and should be submitted by February 6, 2003.

For the Commission, by the Division of Market Regulation, pursuant to delegated authority.⁷
⁷ 17 CFR 200.30-3(a)(75).
J. Lynn Taylor,
Assistant Secretary.

[FR Doc. 03-952 Filed 1-15-03; 8:45 am]

BILLING CODE 8010-01-P